ENVIRONMENTAL PROTECTION AGENCY

[FRL-7403-4]

Clean Water Act Class II: Proposed Administrative Penalty Assessments and Opportunities To Comment Regarding Pick Your Part Auto Wrecking—Chula Vista; Pick Your Part Auto Wrecking—Help Yourself; Pick Your Part Auto Wrecking—Santa Paula; Pick Your Part Auto Wrecking—Sun Valley; Pick Your Part Auto Wrecking—Wilmington

AGENCY: Environmental Protection Agency (“EPA”).

ACTION: Notice.

SUMMARY: EPA is providing notice of five proposed administrative penalty assessments for alleged violations of the Clean Water Act (“Act”). EPA is also providing notice of opportunity to comment on the proposed assessments.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated the conditions of a National Pollutant Discharge Elimination System permit may be assessed a penalty in a “Class II” administrative penalty proceeding. Class II proceedings under section 309(g) are conducted in accordance with the “Consolidated Rules of Practice Governing the Administrative Assessment of Civil Penalties, Issuance of Compliance or Corrective Action Orders, and the Revocation, Termination or Suspension of Permits,” 40 CFR part 22 (“Consolidated Rules”), published at 64 FR 40138, 40177 (July 23, 1999).

On September 30, 2002, EPA commenced the following Class II proceedings for the assessment of penalties by filing with Danielle Carr, Regional Hearing Clerk, U.S. EPA, Region IX, 75 Hawthorne Street, San Francisco, California 94105, (415) 972-3871, the following Complaints:

In the Matter of Pick Your Part Auto Wrecking—Chula Vista, Docket No. CWA-9-2002-01; Pick Your Part Auto Wrecking—Help Yourself, Docket No. CWA-9-2002-07; Pick Your Part Auto Wrecking—Santa Paula, Docket No. CWA-9-2002-08; Pick Your Part Auto Wrecking—Sun Valley, Docket No. CWA-9-2002-09; Pick Your Part Auto Wrecking—Wilmington, Docket No. CWA-9-2002-10.

Each Complaint proposes a penalty of up to One Hundred Thirty Seven Thousand, Five Hundred Dollars ($137,500) for violations of NPDES Permit No. CAS000001 (issued by the California State Water Resources Control Board (Order No. 97-03-DWQ)) and sections 301(a) and 308(a) of the Act, 33 U.S.C. 1311(a), 1318(a), at Pick Your Part facilities in Chula Vista, Santa Paula, Sun Valley, and Wilmington, California.

The procedures by which the public may comment on a proposed Class II penalty or participate in a Class II penalty proceeding are set forth in the Consolidated Rules. The deadline for submitting public comment on a proposed Class II penalty is thirty (30) days after issuance of public notice. The Regional Administrator of EPA, Region 9, may issue an order upon default if the respondent in the proceeding fails to file a response within the time period specified in the Consolidated Rules.

FOR FURTHER INFORMATION CONTACT: Persons wishing to receive a copy of EPA's Consolidated Rules, review one or more of the Complaints, or other documents filed in these proceedings, comment upon the proposed assessments, or otherwise participate in the proceedings should contact Danielle Carr, Regional Hearing Clerk, U.S. EPA, Region IX, 75 Hawthorne Street, San Francisco, California 94105, (415) 972-3871. The administrative record for this proceeding is located in the EPA Regional Office identified above, and the file will be open for public inspection during normal business hours. All information submitted by Pick Your Part is available as part of the administrative record, subject to provisions of law restricting public disclosure of confidential information. In order to provide opportunity for public comment, EPA will issue no final order assessing a penalty in these proceedings prior to thirty (30) days after the date of publication of this notice.

Cat Kuhlman,
Acting Director, Water Division.

[FR Doc. 02-27831 Filed 10-31-02; 8:45 am]

BILLING CODE 6560-50-P